DEPARTMENT OF DEFENSE

Office of the Secretary; Joint Military Intelligence College Board of Visitors Meeting

AGENCY: Department of Defense.

ACTION: Notice of closed meeting.

SUMMARY: Pursuant to the provisions of Subsection (d) of Section 10 of Public Law 92-463, as amended by Section 5 of Public Law 94-409, notice is hereby given that a closed meeting of the DIA Joint Military Intelligence College Board of Visitors has been scheduled as follows:

DATES: Tuesday, June 6, 2006, 0800 to 1700; and Wednesday, June 7, 2006, 0800 to 1200.

ADDRESSES: Point Military Intelligence College, Washington, DC 20340-5100.

FOR FURTHER INFORMATION CONTACT: Mr. A. Denis Clift, President, DIA Joint Military Intelligence College, Washington, DC 20340-5100 (202/231-3344).

SUPPLEMENTARY INFORMATION: The entire meeting is devoted to the discussion of classified information as defined in Section 552b(c)(1), Title 5 of the U.S. Code and therefore will be closed. The Board will discuss several current critical intelligence issues and advise the Director, DIA, as to the successful accomplishment of the mission assigned to the Joint Military Intelligence College. Due to an unforeseen delay in administrative processing, our notification does not meet the minimum 15 day advanced notification.

Dated: May 26, 2006.
L.M. Bynum,
OSD Federal Register Liaison Officer, DoD.

[FR Doc. 06-5041 Filed 6-1-06; 8:45 am]

BILLING CODE 5001-06-M